SECURITIES AND EXCHANGE COMMISSION

[Release Nos. 33-10456A; 34-82656A; File No. 265-28]

Investor Advisory Committee Meeting

AGENCY: Securities and Exchange Commission.

ACTION: Notice of Meeting of Securities and Exchange Commission Dodd-Frank Investor Advisory Committee; correction.

SUMMARY: The Securities and Exchange Commission published a document in the Federal Register on February 13, 2018, providing notice that the Securities and Exchange Commission Investor Advisory Committee would hold a public meeting on Thursday, March 8, 2018. The document contained an incorrect description of the agenda for the meeting.

FOR FURTHER INFORMATION CONTACT: Marc Oorloff Sharma, Chief Counsel, Office of the Investor Advocate, at (202) 551-3302, Securities and Exchange Commission, 100 F Street NE, Washington, DC 20549.

Correction

In the Federal Register of February 13, 2018, in FR Doc. 2018-02850, on page 6280, in the first column, correct the description of the meeting agenda to read:

The agenda for the meeting includes: Remarks from Commissioners; a discussion of regulatory approaches to combat retail investor fraud; a discussion regarding financial support for law school clinics that support investors (which may include a recommendation of the Committee as a whole); a discussion regarding dual-class share structures (which may include a recommendation of the Investor as Owner Subcommittee); a discussion regarding efforts to combat the financial exploitation of vulnerable adults; subcommittee reports; and a nonpublic administrative work session during lunch.

Dated: February 22, 2018.
Brent J. Fields,
Secretary.

[FR Doc. 2018-04031 Filed 2-27-18; 8:45 am]

BILLING CODE 8011-01-P